DEPARTMENT OF ENERGY

Federal Energy Regulatory Commission

Combined Notice of Filings #1

Take notice that the Commission received the following exempt wholesale generator filings:

Docket Numbers: EG23-29-000.

Applicants: Moss Landing Energy Storage 3, LLC, Vistra Corp.

Description: Moss Landing Energy Storage 3, LLC et. al. submits Notice of Self-Certification of Exempt Wholesale Generator Status.

Filed Date: 12/8/22.

Accession Number: 20221208-5216.

Comment Date: 5 p.m. ET 12/29/22.

Take notice that the Commission received the following Complaints and Compliance filings in EL Dockets:

Docket Numbers: EL23-14-000.

Applicants: Alternative Transmission Inc.

Description: Petition for Declaratory Order of [Alternative Transmission Inc.].

Filed Date: 12/9/22.

Accession Number: 20221209-5093.

Comment Date: 5 p.m. ET 12/30/22.

Take notice that the Commission received the following electric rate filings:

Docket Numbers: ER10-3177-002; ER10-3181-005; ER10-3285-004; ER17-991-009.

Applicants: Hunlock Energy, LLC, UGI Utilities Inc., UGI Development Company, UGI Energy Services, Inc.

Description: Triennial Market Power Analysis for Northeast Region and Notice of Change in Status of UGI Energy Services, LLC, et al.

Filed Date: 12/8/22.

Accession Number: 20221208-5218.

Comment Date: 5 p.m. ET 2/6/23.

Docket Numbers: ER22-26-003.

Applicants: PJM Interconnection, L.L.C.

Description: Compliance filing: Compliance Filing to Nov. 9, 2022 Order Approving Settlement in ER22-26 to be effective 2/1/2023.

Filed Date: 12/8/22.

Accession Number: 20221208-5111.

Comment Date: 5 p.m. ET 12/29/22.

Docket Numbers: ER22-2158-002.

Applicants: Public Service Company of New Mexico.

Description: Compliance filing: Compliance Filing Re November 8, 2022 Order to be effective 6/22/2022.

Filed Date: 12/8/22.

Accession Number: 20221208-5120.

Comment Date: 5 p.m. ET 12/29/22.

Docket Numbers: ER23-72-001.

Applicants: Omaha Public Power District, Southwest Power Pool, Inc.

Description: Tariff Amendment: Omaha Public Power District submits tariff filing per 35.17(b): Omaha Public Power District Amended Revisions to Formula Rate Protocols to be effective 2/8/2023.

Filed Date: 12/9/22.

Accession Number: 20221209-5017.

Comment Date: 5 p.m. ET 12/30/22.

Docket Numbers: ER23-582-000.

Applicants: Northern States Power Company, a Minnesota corporation.

Description: § 205(d) Rate Filing: 2022-12-08 GRE FSA Eidswold Sub 717-NSP to be effective 12/9/2022.

Filed Date: 12/8/22.

Accession Number: 20221208-5113.

Comment Date: 5 p.m. ET 12/29/22.

Docket Numbers: ER23-583-000.

Applicants: PJM Interconnection, L.L.C.

Description: § 205(d) Rate Filing: Original NSA, Service Agreement No. 6605; Queue No. AB1-056 (correction) to be effective 8/16/2022.

Filed Date: 12/9/22.

Accession Number: 20221209-5027.

Comment Date: 5 p.m. ET 12/30/22.

Docket Numbers: ER23-584-000.

Applicants: PJM Interconnection, L.L.C.

Description: Tariff Amendment: Notice of Cancellation of ICSA, SA No. 4220; Queue No. AA1-034 to be effective 9/16/2022.

Filed Date: 12/9/22.

Accession Number: 20221209-5031.

Comment Date: 5 p.m. ET 12/30/22.

Docket Numbers: ER23-585-000.

Applicants: Virginia Electric and Power Company, PJM Interconnection, L.L.C.

Description: § 205(d) Rate Filing: Virginia Electric and Power Company submits tariff filing per 35.13(a)(2)(iii: Dominion submits One WDSA, SA No. 6524 to be effective 12/1/2022.

Filed Date: 12/9/22.

Accession Number: 20221209-5034.

Comment Date: 5 p.m. ET 12/30/22.

Docket Numbers: ER23-586-000.

Applicants: Midcontinent Independent System Operator, Inc.

Description: § 205(d) Rate Filing: 2022-12-09_SA 3379 NIPSCO-Meadow Lake Solar Park 1st Rev GIA (J913) to be effective 12/2/2022.

Filed Date: 12/9/22.

Accession Number: 20221209-5039.

Comment Date: 5 p.m. ET 12/30/22.

Docket Numbers: ER23-587-000.

Applicants: Southwest Power Pool, Inc.

Description: § 205(d) Rate Filing: Revisions to Update the Available Flowgate Capability Calculation Process to be effective 2/21/2023.

Filed Date: 12/9/22.

Accession Number: 20221209-5051.

Comment Date: 5 p.m. ET 12/30/22.

Docket Numbers: ER23-588-000.

Applicants: Alabama Power Company.

Description: § 205(d) Rate Filing: Southeast EEM Agreement Amendment Filing (Exhibit A Revisions) to be effective 1/1/2023.

Filed Date: 12/9/22.

Accession Number: 20221209-5054.

Comment Date: 5 p.m. ET 12/30/22.

Docket Numbers: ER23-589-000.

Applicants: PJM Interconnection, L.L.C.

Description: § 205(d) Rate Filing: Amendment to ISA, Service Agreement No. 4322; Queue No. Z1-036 to be effective 12/3/2015.

Filed Date: 12/9/22.

Accession Number: 20221209-5063.

Comment Date: 5 p.m. ET 12/30/22.

Docket Numbers: ER23-590-000.

Applicants: Chaves County Solar II, LLC.

Description: Baseline eTariff Filing: Chaves County Solar II, LLC Application for Market-Based Rate Authority to be effective 2/8/2023.

Filed Date: 12/9/22.

Accession Number: 20221209-5091.

Comment Date: 5 p.m. ET 12/30/22.

Docket Numbers: ER23-592-000.

Applicants: PJM Interconnection, L.L.C.

Description: § 205(d) Rate Filing: Original WMPA, Service Agreement No. 6731; Queue No. AE2-248 to be effective 11/9/2022.

Filed Date: 12/9/22.

Accession Number: 20221209-5117.

Comment Date: 5 p.m. ET 12/30/22.

Docket Numbers: ER23-593-000.

Applicants: PJM Interconnection, L.L.C.

Description: § 205(d) Rate Filing: PJM submits Amended NJ State Agreement Approach Study Agreement, SA No. 5890 to be effective 11/18/2020.

Filed Date: 12/9/22.

Accession Number: 20221209-5118.

Comment Date: 5 p.m. ET 12/30/22.

Docket Numbers: ER23-594-000.

Applicants: Massachusetts Electric Company.

Description: Tariff Amendment: 2022-12-09 Notice of Cancellation of Service Agreement No. IA-MECO-28-01 to be effective 2/8/2023.

Filed Date: 12/9/22.

Accession Number: 20221209-5147.

Comment Date: 5 p.m. ET 12/30/22.

Docket Numbers: ER23-595-000.

Applicants: Pacific Gas and Electric Company.

Description: § 205(d) Rate Filing: Transmission Access Charge Balancing Account Adjustment (TACBAA) 2023 to be effective 3/1/2023.

Filed Date: 12/9/22.

Accession Number: 20221209-5153.

Comment Date: 5 p.m. ET 12/30/22.

Docket Numbers: ER23-596-000.

Applicants: Duke Energy Florida, LLC.

Description: § 205(d) Rate Filing: DEF-Shady Hills—Amended and Restated LGIA SA No. 230 to be effective 12/3/2022.

Filed Date: 12/9/22.

Accession Number: 20221209-5154.

Comment Date: 5 p.m. ET 12/30/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2022.
Debbie-Anne A. Reese,
Deputy Secretary.

[FR Doc. 2022-27199 Filed 12-14-22; 8:45 am]

BILLING CODE 6717-01-P